MORRIS K. UDALL AND STEWART L. UDALL FOUNDATION, THE UNITED STATES INSTITUTE FOR ENVIRONMENTAL CONFLICT RESOLUTION

Agency Information Collection Activities: Notice of Intent To Request Emergency Extension Without Change of Currently Approved Information Collections; U.S. Institute for Environmental Conflict Resolution Application for Emergency Extension of Instruments Concerning Evaluation of Its Conflict Assessment Services, Training Services, Facilitated Meeting Services, Roster Program Services, and Program Support Services

AGENCY: Morris K. Udall and Stewart L. Udall Foundation, U.S. Institute for Environmental Conflict Resolution.

ACTION: Notice.

SUMMARY: In compliance with the Paperwork Reduction Act (44 U.S.C. 3501 et seq.), this document announces that the U.S. Institute for Environmental Conflict Resolution (the U.S. Institute), part of the Udall Foundation, will submit for Office of Management and Budget (OMB) review, a request for an emergency extension of currently approved information collection requests which will expire on February 28, 2015. The extension is being sought to evaluate, along with our partners, the need for and scope of the existing instruments. The Agency expects that OMB will approve these emergency extensions by February 28, 2015, and approve any revised instruments (after appropriate notice and public comment periods) by June 30, 2015.

FOR FURTHER INFORMATION OR TO SUBMIT COMMENTS, CONTACT: Peter Williams, Director, U.S. Institute for Environmental Conflict Resolution, 130 South Scott Avenue, Tucson, Arizona 85701, Fax: 520-670-5530, Phone: 520-901-8513, Email: williams@ecr.gov. When submitting comments, reference this Federal Register Notice.

SUPPLEMENTARY INFORMATION: Abstract: The U.S. Institute is a non-partisan federal program established by Congress to provide impartial assistance to parties in resolving environmental, natural resource, and public lands conflicts involving the U.S. government, as well as training to increase capacity within the federal government to resolve such issues. The instruments for which emergency extensions are requested are used to evaluate the efficacy and value of the assistance in resolving environmental conflicts and the training provided by the U.S. Institute to enhance resolution of environmental conflicts.

INFORMATION ON INDIVIDUAL ICRS FOR WHICH AN EMERGENCY EXTENSION IS REQUESTED:

1. Conflict Assessment Services

Type of Information Collection: Currently approved collection.

Title of Information Collection: Program Evaluation Instruments for Conflict Assessment Services (two instruments).

OMB Number: 3320-0003.

Affected Public: Individuals or households, business or other for-profit, not-for-profit, federal and state, local or tribal government.

Frequency: One time.

Annual Number of Respondents: 430.

Total Annual Responses: 430.

Average Burden per Response: 5 minutes.

Total Annual Hours: 36.00.

Total Burden Cost: $1,700.00.

2. Training Services

Type of Information Collection: Currently approved collection.

Title of Information Collection: Program Evaluation Instruments for Training Services.

OMB Number: 3320-0006.

Affected Public: Individuals or households, business or other for-profit, not-for-profit, federal and state, local or tribal government.

Frequency: One time.

Annual Number of Respondents: 1,560.

Total Annual Responses: 1,560.

Average Burden per Response: 5.5 minutes.

Total Annual Hours: 143.

Total Burden Cost: $6,721.

3. Facilitated Meeting Services

Type of Information Collection: Currently Approved Collection.

Title of Information Collection: Program Evaluation Instruments for Facilitated Meeting Services.

OMB Number: 3320-0007.

Affected Public: Individuals or households, business or other for-profit, not-for-profit, federal and state, local or tribal government.

Frequency: One time.

Annual Number of Respondents: 3,000.

Total Annual Responses: 3,000.

Average Burden per Response: 5 minutes.

Total Annual Hours: 252.

Total Burden Cost: $11,752.

4. Roster Program Services

Type of Information Collection: Revision of a currently approved collection.

Title of Information Collection: Program Evaluation Instruments for Roster Program Services.

OMB Number: 3320-0005.

Affected Public: Business or other for-profit, not-for-profit, federal and state, local or tribal government.

Frequency: One time.

Annual Number of Respondents: 550.

Total Annual Responses: 550.

Average Burden per Response: 3.5 minutes.

Total Annual Hours: 32.

Total Burden Cost: $1,488.

5. Program Support Services

Type of Information Collection: Revision of a currently approved collection.

Title of Information Collection: Program Evaluation Instruments for Program Support Services.

OMB Number: 3320-0009.

Affected Public: Business or other for-profit, not-for-profit, federal and state, local or tribal government.

Frequency: One time.

Annual Number of Respondents: 40.

Total Annual Responses: 40.

Average Burden per Response: 5.

Total Annual Hours: 3.33.

Total Burden Cost: $157.

(Authority: 20 U.S.C. 5601-5609).

Dated: December 16, 2014.
Philip Lemanski,
Executive Director, Udall Foundation.

[FR Doc. 2014-30145 Filed 12-23-14; 8:45 am]

BILLING CODE 6820-FN-P